DEPARTMENT OF COMMERCE

Patent and Trademark Office

Submission for OMB Review; Comment Request

The United States Patent and Trademark Office (USPTO) will submit to the Office of Management and Budget (OMB) for clearance the following proposal for collection of information under the provisions of the Paperwork Reduction Act (44 U.S.C. Chapter 35).

Agency: United States Patent and Trademark Office (USPTO).

Title: Trademark Petitions.

Form Number(s): None.

Agency Approval Number: 0651-00xx.

Type of Request: New collection.

Burden: 862 hours.

Number of Respondents: 953 responses.

Avg. Hours per Response: 30 minutes (0.50 hours) to one hour. This includes time to gather the necessary information, create the documents, and submit the completed request to the USPTO.

Needs and Uses: The information described in this collection is used by the public for a variety of private business purposes related to establishing and enforcing trademark rights. Information relating to the registration of a trademark is made publicly available by the USPTO. The release of information in a letter of protest is controlled and may be available upon request only.

Affected Public: Business or other for-profit; not-for-profit institutions.

Frequency: On occasion.

Respondent's Obligation: Voluntary.

OMB Desk Officer: Nicholas A. Fraser, e-mail: Nicholas_A._Fraser@omb.eop.gov.

Once submitted, the request will be publically available in electronic format through the Information Collection Review page at http://www.reginfo.gov.

Paper copies can be obtained by:

• E-mail: Susan.Fawcett@uspto.gov. Include “0651-0060 National Medal of Technology and Innovation Nomination Application copy request” in the subject line of the message.

• Fax: 571-273-0112, marked to the attention of Susan K. Fawcett.

• Mail: Susan K. Fawcett, Records Officer, Office of the Chief Information Officer, Administrative Management Group, U.S. Patent and Trademark Office, P.O. Box 1450, Alexandria, VA 22313-1450.

Written comments and recommendations for the proposed information collection should be sent on or before September 2, 2009 to Nicholas A. Fraser, OMB Desk Officer, via e-mail at Nicholas_A._Fraser@omb.eop.gov or by fax to 202-395-5167, marked to the attention of Nicholas A. Fraser.

Susan K. Fawcett,
Records Officer, USPTO, Office of the Chief Information Officer, Administrative Management Group.

[FR Doc. E9-18357 Filed 7-31-09; 8:45 am]

BILLING CODE 3510-16-P